DEPARTMENT OF ENERGY

[Case Number 2022-009; EERE-2023-BT-WAV-0010]

Energy Conservation Program: Notification of Petition for Waiver of Samsung HVAC America LLC From the Department of Energy Central Air Conditioners and Heat Pumps Test Procedure and Notification of Grant of Interim Waiver

AGENCY: Office of Energy Efficiency and Renewable Energy, Department of Energy.

ACTION: Notification of petition for waiver and grant of an interim waiver; request for comments.

SUMMARY: This notification announces receipt of and publishes a petition for waiver and interim waiver from Samsung HVAC America LLC (“Samsung”), which seeks a waiver for specified basic models of central air conditioners (“CACs”) and heat pumps (“HPs”) (collectively, “CAC/HPs”) from the U.S. Department of Energy (“DOE”) test procedure used for determining the efficiency of CAC/HPs. DOE also gives notification of an Interim Waiver Order that requires Samsung to test and rate the specified CAC/HP basic models in accordance with the alternate test procedure set forth in the Interim Waiver Order. DOE solicits comments, data, and information concerning Samsung's petition and its suggested alternate test procedure to inform DOE's final decision on Samsung's waiver request.

DATES: Written comments and information are requested and will be accepted on or before July 5, 2023.

ADDRESSES: Interested persons are encouraged to submit comments using the Federal eRulemaking Portal at www.regulations.gov under docket number EERE-2023-BT-WAV-0010. Follow the instructions for submitting comments. Alternatively, interested persons may submit comments, identified by docket number EERE-2023-BT-WAV-0010, by any of the following methods:

(1) Email: SamsungCAC2023WAV0010@ee.doe.gov. Include the docket number EERE-2023-BT-WAV-0010 in the subject line of the message.

(2) Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

(3) Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimiles (“faxes”) will be accepted. For detailed instructions on submitting comments and additional information on this process, see the SUPPLEMENTARY INFORMATION section of this document.

Docket: The docket for this activity, which includes Federal Register notices, comments, and other supporting documents/materials, is available for review at www.regulations.gov/docket?D=EERE-2023-BT-WAV-0010. All documents in the docket are listed in the www.regulations.gov index. However, some documents listed in the index, such as those containing information that is exempt from public disclosure, may not be publicly available.

The docket web page contains instruction on how to access all documents, including public comments, in the docket. See the SUPPLEMENTARY INFORMATION section for information on how to submit comments through www.regulations.gov.

FOR FURTHER INFORMATION CONTACT: Ms. Julia Hegarty, U.S. Department of Energy, Office of Energy Efficiency and Renewable Energy, Building Technologies Office, Mailstop EE-5B, 1000 Independence Avenue SW, Washington, DC 20585-0121. Telephone: (240) 597-6737. Email: AS_Waiver_Request@ee.doe.gov.

Mr. Nolan Brickwood, U.S. Department of Energy, Office of the General Counsel, Mail Stop GC-33, Forrestal Building, 1000 Independence Avenue SW, Washington, DC 20585-0103. Telephone: (202) 586-4498. Email: nolan.brickwood@hq.doe.gov.

SUPPLEMENTARY INFORMATION: DOE is publishing Samsung's petition for waiver in its entirety, pursuant to 10 CFR 430.27(b)(1)(iv), absent any information for which petitioner requested treatment as confidential business information.¹ DOE is also publishing the Interim Waiver Order granted to Samsung, which serves as notification of DOE's determination regarding Samsung's petition for an interim waiver, pursuant to 10 CFR 430.27(e)(3). DOE invites all interested parties to submit in writing by July 5, 2023, comments and information on all aspects of the petition, including the alternate test procedure. Pursuant to 10 CFR 430.27(d), any person submitting written comments to DOE must also send a copy of such comments to the petitioner. The contact information for the petitioner is Chandra Gollapudi, cg.gollapudi@samsunghvac.com, Samsung HVAC America LLC, 776 Henrietta Creek Road, Suite 100, Roanoke, TX 76262.

¹ The petition did not identify any of the information contained therein as confidential business information.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. If this instruction is followed, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email, hand delivery/courier, or postal mail. Comments and documents submitted via email, hand delivery/courier, or postal mail will also be posted to www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. Faxes will not be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery/courier two well-marked copies: one copy of the document marked confidential including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Case Number 2022-009

Interim Waiver Order

I. Background and Authority

The Energy Policy and Conservation Act, as amended (“EPCA”),² authorizes the U.S. Department of Energy (“DOE”) to regulate the energy efficiency of several consumer products and certain industrial equipment. (42 U.S.C. 6291-6317) Title III, Part B ³ of EPCA, Public Law 94-163 (42 U.S.C. 6291-6309, as codified), established the Energy Conservation Program for Consumer Products Other Than Automobiles, which sets forth a variety of provisions designed to improve energy efficiency for certain types of consumer products. These products include CAC/HPs, the subject of this Interim Waiver Order. (42 U.S.C. 6292(a)(3))

² All references to EPCA in this document refer to the statute as amended through the Energy Act of 2020, Public Law 116-260 (Dec. 27, 2020), which reflect the last statutory amendments that impact Parts A and A-1 of EPCA.

³ For editorial reasons, upon codification in the U.S. Code, Part B was redesignated as Part A.

The energy conservation program under EPCA consists essentially of four parts: (1) testing, (2) labeling, (3) Federal energy conservation standards, and (4) certification and enforcement procedures. Relevant provisions of EPCA include definitions (42 U.S.C. 6291), test procedures (42 U.S.C. 6293), labeling provisions (42 U.S.C. 6294), energy conservation standards (42 U.S.C. 6295), and the authority to require information and reports from manufacturers (42 U.S.C. 6296).

The Federal testing requirements consist of test procedures that manufacturers of covered products must use as the basis for: (1) certifying to DOE that their products comply with the applicable energy conservation standards adopted pursuant to EPCA (42 U.S.C. 6295(s)), and (2) making representations about the efficiency of that product (42 U.S.C. 6293(c)). Similarly, DOE must use these test procedures to determine whether the covered product complies with relevant standards promulgated under EPCA. (42 U.S.C. 6295(s))

Under 42 U.S.C. 6293, EPCA sets forth the criteria and procedures DOE is required to follow when prescribing or amending test procedures for covered products. EPCA requires that any test procedures prescribed or amended under this section must be reasonably designed to produce test results which reflect the energy efficiency, energy use or estimated annual operating cost of a covered product during a representative average use cycle or period of use and requires that test procedures not be unduly burdensome to conduct. (42 U.S.C. 6293(b)(3)) The test procedure for CAC/HPs is contained in the Code of Federal Regulations (“CFR”) at 10 CFR part 430, subpart B, appendix M1, Uniform Test Method for Measuring the Energy Consumption of Central Air Conditioners and Heat Pumps (“appendix M1”).

Under 10 CFR 430.27, any interested person may submit a petition for waiver from DOE's test procedure requirements. DOE will grant a waiver from the test procedure requirements if DOE determines either that the basic model for which the waiver was requested contains a design characteristic that prevents testing of the basic model according to the prescribed test procedures, or that the prescribed test procedures evaluate the basic model in a manner so unrepresentative of its true energy consumption characteristics as to provide materially inaccurate comparative data. 10 CFR 430.27(f)(2). A petitioner must include in its petition any alternate test procedures known to the petitioner to evaluate the performance of the product type in a manner representative of the energy consumption characteristics of the basic model. 10 CFR 430.27(b)(1)(iii). DOE may grant the waiver subject to conditions, including adherence to alternate test procedures. 10 CFR 430.27(f)(2).

As soon as practicable after the granting of any waiver, DOE will publish in the Federal Register a notice of proposed rulemaking to amend its regulations so as to eliminate any need for the continuation of such waiver. 10 CFR 430.27(l) As soon thereafter as practicable, DOE will publish in the Federal Register a final rule to that effect. Id.

The waiver process also provides that DOE may grant an interim waiver if it appears likely that the underlying petition for waiver will be granted and/or if DOE determines that it would be desirable for public policy reasons to grant immediate relief pending a determination on the underlying petition for waiver. 10 CFR 430.27(e)(3). Within one year of issuance of an interim waiver, DOE will either: (i) publish in the Federal Register a determination on the petition for waiver; or (ii) publish in the Federal Register a new or amended test procedure that addresses the issues presented in the waiver. 10 CFR 430.27(h)(1).

If the interim waiver test procedure methodology is different than the decision and order test procedure methodology, certification reports to DOE required under 10 CFR 429.12 and any representations must be based on either of the two methodologies until 180 days after the publication date of the decision and order. Thereafter, certification reports and any representations must be based on the decision and order test procedure methodology, unless otherwise specified by DOE. 10 CFR 430.27(i)(1). When DOE amends the test procedure to address the issues presented in a waiver, the waiver or interim waiver will automatically terminate on the date on which use of that test procedure is required to demonstrate compliance. 10 CFR 429.27(h)(3).

II. Samsung's Petition for Interim Waiver

On December 16, 2022, DOE received from Samsung a petition for waiver and interim waiver from the test procedure for CAC/HPs set forth at 10 CFR part 430 subpart B, appendix M1.⁴ (Samsung, No. 1 at p. 2) ⁵ Pursuant to 10 CFR 430.27(e)(i), DOE posted the petition on the DOE website. The petition did not identify any of the information contained therein as confidential business information.

⁴ The specific models for which the petition applies include Samsung Slim Duct CAC/HP outdoor models AC009BXADCH, AC012BXADCH, and AC018BXADCH, and indoor models AC009BNLDCH, AC012BNLDCH, and AC018BNLDCH. These models were provided by Samsung in its December 16, 2022 petition.

⁵ A notation in this form provides a reference for information that is in the docket for this test procedure waiver. This notation indicates that the statement preceding the reference is document number 1 in the docket and appears at page 2 of that document.

In its petition, Samsung noted that the minimum external static pressure (“ESP”) requirement for ducted blower coil systems, including for the basic models subject to the petition, increased from appendix M to subpart B of 10 CFR part 430 (“appendix M”) to appendix M1. (Samsung, No. 1 at p. 1) Specifically, appendix M required a minimum ESP of 0.1 to 0.2 inches of water column (“in. wc.”), depending on the cooling capacity of the system, for systems other than small-duct high velocity; whereas, appendix M1 requires a minimum ESP of 0.5 in. wc. for all conventional ducted blower coil systems.⁶ Samsung acknowledges that DOE increased the minimum ESP requirement for ducted systems in appendix M1 to better represent the ESP of homes with central ducted CAC/HP systems. Id. In its petition, Samsung asserts that the specified basic models cannot operate at the 0.5 in. wc. ESP requirement specified in appendix M1, as these models are not designed for use in a traditional central ducted home, but rather are designed for use with short ducts and low static pressures and, thus, have a maximum operating ESP of 0.24 in. wc. Id. Because the models listed in its petition cannot operate at the 0.5 in. wc. condition specified by the test procedure, Samsung seeks to use an alternative test procedure that specifies testing these basic models at 0.1 in. wc. ESP, and in conjunction, adjusts the fan power and the resulting change in heating and cooling capacity in order to be equivalent to testing at 0.5 in. wc. ESP. Id.

⁶ See Table 4 in section 3.1.4.1.1 of appendix M and Table 4 in section 3.1.4.1.1 for ducted blower coil systems.

Samsung also requested an interim waiver from the existing DOE test procedure, asserting that the petition for waiver is likely to be granted. Samsung stated that without the granting of a waiver and interim waiver, Samsung would suffer economic hardship by needing to withdraw these products from the market, which would result in loss of sales and reduced customer choice. In such case, Samsung also stated that consumers would need to seek alternate products that are not optimized for low static, short duct applications, which would lead to increased energy consumption. (Samsung, No. 1 at p. 5)

DOE will grant an interim waiver if it appears likely that the petition for waiver will be granted, and/or if DOE determines that it would be desirable for public policy reasons to grant immediate relief pending a determination of the petition for waiver. 10 CFR 430.27(e)(3).

III. Requested Alternate Test Procedure

EPCA requires that manufacturers use DOE test procedures when making representations about the energy consumption and energy consumption costs of covered products. (42 U.S.C. 6293(c)) Consistency is important when making representations about the energy efficiency of covered products, including when demonstrating compliance with applicable DOE energy conservation standards. Pursuant to 10 CFR 430.27, and after consideration of public comments on the petition, DOE may establish in a subsequent Decision and Order an alternate test procedure for the basic models addressed by the Interim Waiver Order.

As an alternate test procedure, Samsung seeks to test the specified basic models at 0.1 in. wc. ESP and to make proportional adjustments to fan power and capacity such that the results are equivalent to performance measured at 0.5 in. wc. ESP. (Samsung, No. 1 at p. 4)

Specifically, Samsung requests to use an alternate calculation of measured energy use. At all sections of appendix M1 where total cooling capacity, total heating capacity, sensible cooling capacity, and electrical power consumption is calculated, the measured indoor fan power would be increased by 87 watts per 1000 cubic feet per minute of standard air (“SCFM”). Samsung requests that for all tests the cooling capacity be decreased by the Btu/h equivalent of this fan power adjustment (i.e., 297 Btu/h per 1000 SCFM); and the heating capacity increased by the same Btu/h equivalent. The test would otherwise be performed consistent with the requirements of appendix M1.

Samsung stated that it determined the proposed adjusted values for fan power based on the similar adjustment in fan wattage for coil-only systems in appendix M as compared to appendix M1. Specifically, Samsung noted that in the January 5, 2017 final rule that established appendix M1 (“January 2017 Final Rule”), DOE had determined that increasing the ESP from 0.15 in. wc.⁷ to 0.5 in. wc. corresponds to an increase in the indoor fan blower power of 76 watts/1000 SCFM.⁸ (See 82 FR 1426, 1451-1453). On this basis, Samsung extrapolated that changing the ESP from 0.1 in. wc. to 0.5 in. wc. equates to an increase in indoor fan blower power of 87 watts/1000 SCFM. (Samsung, No. 1 at p. 4) Samsung asserted that because these estimates of indoor fan blower power are based on mostly fixed speed motors, and the basic models in consideration use more efficient variable speed motors, this is a conservative approach in estimating revised fan power. Id.

⁷ DOE interprets Samsung's reference to 0.15 in. wc. in appendix M as referring to the average of the range of 0.1 to 0.2 in. wc. minimum ESP requirements for ducted blower coil systems specified in Table 4 of appendix M.

⁸ Appendix M specifies a default fan power of 365 watts/1000 SCFM; whereas appendix M1 specifies a default fan power of 441 watts/1000 SCFM, a difference of 76 watts/1000 SCFM.

IV. Interim Waiver Order

DOE has reviewed Samsung's application for an interim waiver, the alternate test procedure requested by Samsung, publicly available specification sheets and installation manuals relevant to these basic models, and the additional materials Samsung provided in support of its petition.

In appendix A to its petition, Samsung provided a submittal for one of the basic models for which it seeks to use its requested alternate test procedure. (Samsung, No. 1 at p. 6) The submittal shows technical specifications that confirm to DOE the limited ESP operating range of 0.01-0.24 in. wc. used as grounds for waiver for the basic models subject to Samsung's petition. Additionally, Figure 1 of Samsung's petition provided the fan curves for the blower used in these basic models. (Samsung, No. 1 at p. 3) Figure 1 shows that at maximum speed of the motor of 1560 revolutions per minute and 0.5 in. wc. ESP (or 125 pascals) the air flow of these basic models is zero, and that, therefore, testing of the basic models with the appendix M1 test procedure is physically impossible. Samsung supported Figure 1 with the electrical and mechanical specifications of the indoor fan provided in appendix B to its petition. (Samsung, No. 1 at pp. 7-8)

For the basic models listed in Samsung's petition, DOE's review of technical specifications for the basic models subject to the petition indicates that the fan cannot operate at the minimum ESP of 0.5 in. wc. required to be tested by appendix M1. Since these basic models are physically incapable of operating at the minimum ESP required by the test procedure, DOE tentatively agrees that testing these basic models instead at a minimum ESP of 0.1 in. wc. with adjustments to ensure results are equivalent to performance measured at 0.5 in. wc. ESP is appropriate. DOE tentatively agrees that the measured fan power, cooling capacity, and heating capacity should be adjusted to reflect performance equivalent to testing at 0.5 in. wc. ESP, as requested by Samsung. DOE also tentatively agrees that using the calculation methodology from the January 2017 Final Rule to determine the fan power adjustment for these basic models is appropriate, and DOE's analysis confirms that this methodology yields an adjustment increase of 87 watts per 1000 SCFM. DOE notes that Samsung's proposal to adjust cooling and heating capacity by the Btu/h equivalent of the fan power is consistent with fan power adjustments made for coil-only systems in appendix M1. (See, for example, Equation 3.3-5 in section 3.3.e.1 of appendix M1, in which the average total space cooling capacity, Qcᵏ(T), is decreased by the Btu/h equivalent of the default fan power coefficient DFPCC, in watts, for non-mobile, non-space-constrained home ducted coil-only system tests).

Based on this review, DOE has initially determined that the alternate test procedure requested by Samsung is appropriate and appears to allow for the accurate measurement of the energy efficiency of the specified basic models, while alleviating the testing problems cited by Samsung in implementing the DOE test procedure for these basic models. Consequently, DOE has determined that Samsung's petition for waiver likely will be granted. Furthermore, DOE has determined that it is desirable for public policy reasons to grant Samsung immediate relief pending a determination of the petition for waiver, and that Samsung may be likely to suffer economic hardship otherwise.

To maintain consistent units of measurement with the other sections of appendix M1 (specifically, the sections relevant to coil-only systems), DOE has converted Samsung's suggested adjustments of cooling and heating capacities from units of Btu/h per watt of incremental fan power to units of Btu/h per 1000 SCFM. Samsung's suggestions regarding adjustment of cooling and heating capacities correspond to decreasing cooling capacity by 297 Btu/h/1000 SCFM and increasing heating capacity by 297 Btu/h/1000 SCFM. These values are reflected in the alternate test procedure established by this notification.

For the reasons stated, it is ordered that:

(1) Samsung must test and rate the following CAC/HP basic models, which are comprised of the individual combinations listed below, using the alternate test procedure set forth in paragraph (2).

Brand series name | Outdoor unit model No. | Indoor unit model No. | Cooling capacity (95F)
Samsung Slim Duct | AC009BXADCH | AC009BNLDCH | 9,000
| AC012BXADCH | AC012BNLDCH | 12,000
| AC018BXADCH | AC018BNLDCH | 18,000

(2) The alternate test procedure for the Samsung basic models identified in paragraph (1) of this Interim Waiver Order is the test procedure for CAC/HPs prescribed by DOE at 10 CFR part 430, subpart B, appendix M1, except that:

In 3.1.4, Airflow Through the Indoor Coil, test using a minimum external static pressure of 0.1 in. wc. rather than the 0.50 value listed in Table 4.

In 3.3, Test Procedures for Steady-State Wet Coil Cooling Mode Tests (the A, A2, A1, B, B2, B1, EV, and F1 Tests), perform the following additional calculation:

g. For all steady-state wet coil tests (i.e., the A1, A2, B1, B2, EV, and F1 tests), decrease Q̇ck(T) by the quantity calculated in Equation 3.3-9 to this appendix and increase Ėck(T) by the quantity calculated in Equation 3.3-10 to this appendix.

Where:

V̇s is the average measured indoor air volume rate expressed in units of cubic feet per minute of standard air (scfm).

In 3.5.1, Procedures When Testing Ducted Systems, perform the following additional calculation:

e. For all cyclic dry-coil tests (i.e., the D, D1, D2, and I1 tests), decrease Q̇ck(T) by the quantity calculated in Equation 3.5-10 to this appendix and increase Ėck(T) by the quantity calculated in Equation 3.5-11 to this appendix.

Where:

V̇s is the average measured indoor air volume rate expressed in units of cubic feet per minute of standard air (scfm).

In 3.7, Test Procedures for Steady-State Maximum Temperature and High Temperature Heating Mode Tests (the H01, H1, H12, H11, and H1N tests), perform the following additional calculation:

g. For all steady-state maximum temperature and high temperature tests (i.e., the H01, H1, H12, H11, and H1N tests), increase Q̇hk(T) by the quantity calculated in Equation 3.7-9 to this appendix and increase Ėhk(T) by the quantity calculated in Equation 3.7-10 to this appendix.

Where:

V̇s is the average measured indoor air volume rate expressed in units of cubic feet per minute of standard air (scfm).

In 3.9.1, Average Space Heating Capacity and Electrical Power Calculations, under paragraph (b) perform the following additional calculation:

(3) For all frost accumulation tests (i.e., the H21, H22, and H2V tests), increase Q̇hk(35) by the quantity calculated in Equation 3.9.1-9 to this appendix and increase Ėhk(35) by the quantity calculated in Equation 3.9.1-10 to this appendix.

Where:

V̇s is the average measured indoor air volume rate expressed in units of cubic feet per minute of standard air (scfm).

(3) Representations. Samsung may not make representations about the efficiency of a basic model listed in paragraph (1) for compliance, marketing, or other purposes unless that basic model has been tested in accordance with the provisions set forth in this alternate test procedure and such representations fairly disclose the results of such testing.

(4) This Interim Waiver Order shall remain in effect according to the provisions of 10 CFR 430.27.

(5) This Interim Waiver Order is issued on the condition that the statements, representations, test data, and documentary materials provided by Samsung are valid. 10 CFR 430.27(k)(1). If Samsung makes any modifications to the controls or configurations of a basic model subject to this Interim Waiver Order, such modifications will render the waiver invalid with respect to that basic model, and Samsung will either be required to use the current Federal test method or submit a new application for a test procedure waiver. DOE may rescind or modify this waiver at any time if it determines the factual basis underlying the petition for the Interim Waiver Order is incorrect, or the results from the alternate test procedure are unrepresentative of the basic model's true energy consumption characteristics. Id. Likewise, Samsung may request that DOE rescind or modify the Interim Waiver Order if Samsung discovers an error in the information provided to DOE as part of its petition, determines that the interim waiver is no longer needed, or for other appropriate reasons. 10 CFR 430.27(k)(2).

(6) Issuance of this Interim Waiver Order does not release Samsung from the applicable requirements set forth at 10 CFR part 429.

DOE makes decisions on waivers and interim waivers for only those basic models specifically set out in the petition, not future models that may be manufactured by the petitioner. Samsung may submit a new or amended petition for waiver and request for grant of interim waiver, as appropriate, for additional basic models of CAC/HPs. Alternatively, if appropriate, Samsung may request that DOE extend the scope of a waiver or an interim waiver to include additional basic models employing the same technology as the basic model(s) set forth in the original petition consistent with 10 CFR 430.27(g).

Signing Authority

This document of the Department of Energy was signed on May 30, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 30, 2023.
Treena V. Garrett.
Federal Register Liaison Officer, U.S. Department of Energy.

BILLING CODE 6450-01-P

[FR Doc. 2023-11791 Filed 6-2-23; 8:45 am]

BILLING CODE 6450-01-C